DEPARTMENT OF TRANSPORTATION

Federal Highway Administration

[Docket No. FHWA-2011-0104]

Emergency Temporary Closure of the I-64 Sherman-Minton Bridge Over the Ohio River Between Indiana and Kentucky

AGENCY: Federal Highway Administration (FHWA), DOT.

ACTION: Final Notice.

SUMMARY: The Federal Highway Administration (FHWA) has approved the request from the Indiana Department of Transportation to continue temporary closure of the I-64 Sherman-Minton Bridge over the Ohio River between Indiana and Kentucky for an indefinite period of time due to safety considerations.

The approval is granted as an emergency deletion in accordance with section 658.11(e) due to the safety considerations discussed in this notice. The FHWA published a Notice and Request for Comment on October 27, 2011, at 76 FR 66775, seeking comments on the alternate routes selected by Indiana due to the deletion in accordance with section 658.11(e). No comments were received.

DATES: Effective Date(s): This Notice is effective immediately.

FOR FURTHER INFORMATION CONTACT: Mr. John C. Nicholas, Truck Size and Weight Team, Office of Operations, (202) 366-2317, Mr. Bill Winne, Office of the Chief Counsel, (202) 366-0791, Federal Highway Administration; 1200 New Jersey Avenue SE., Washington, DC 20590, and Mr. Robert Tally, FHWA Division Administrator-Indiana Division, (317) 226-7476. Office hours for the FHWA are from 8 a.m. to 4:30 p.m., E.T., Monday through Friday, except Federal holidays.

SUPPLEMENTARY INFORMATION:

Electronic Access and Filing

You may retrieve a copy of the Notice and Request for Comment, comments submitted to the docket, and a copy of this Final Notice through the Federal eRulemaking portal at: www.regulations.gov. The Web site is available 24 hours each day, 365 days each year. Electronic submission and retrieval help and guidelines are available under the help section of the Web site.

An electronic copy of this document may also be downloaded from Office of the Federal Register's home page at: http://www.archives.gov/federal_register and the Government Printing Office's Web page at: http://www.gpoaccess.gov.

Background

The FHWA is responsible for enforcing the Federal regulations applicable to the National Network of highways that can safely and efficiently accommodate the large vehicles authorized by provisions of the Surface Transportation Assistance Act of 1982, as amended, designated in accordance with 23 CFR Part 658 and listed in Appendix A. In accordance with section 658.11, the FHWA may approve deletions or restrictions of the Interstate system or other National Network route based upon specified justification criteria in section 658.11(d)(2). Additionally, the FHWA has the authority to initiate the deletion of any route from the National Network, on an emergency basis, for safety considerations.

Pursuant to section 658.11 of title 23, Code of Federal Regulations, the Indiana Division of the FHWA announced the continued closure of the I-64 Sherman-Minton Bridge over the Ohio River between Indiana and Kentucky which the Indiana Governor closed on September 9, 2011, for safety considerations. The I-64 Sherman-Minton Bridge was undergoing a retrofit construction project when a crack was discovered in a critical load-carrying element of the bridge. After consultation with the Indiana Department of Transportation (INDOT), the Kentucky Transportation Cabinet (KYTC), and the FHWA, the Governor of Indiana closed the bridge immediately. The closure is for an indefinite period of time.

Notice and Request for Comment

The FHWA published a Notice and Request for Comment on October 27, 2011, at 76 FR 66775, seeking comments from the general public on this request. Specifically, the FHWA sought comments from the general public on the alternate routes selected by Indiana due to the closure. The comment period closed on November 28, 2011. No public comments were received.

The closure of the I-64 Sherman-Minton Bridge has affected traffic throughout the Louisville and Southern Indiana region. The closed bridge carried an Average Daily Traffic (ADT) count of 80,000 vehicles. The I-65 Kennedy Bridge has an ADT of 130,000 vehicles. The additional traffic on I-65 due to the Sherman-Minton Bridge closure has increased delays in crossing over the Ohio River. The 2010 FHWA Freight Performance Measures Initiatives report ranked the I-65 at I-64/I-71 interchange as the 19th worst out of 250 national freight congestion locations.

The Indiana and Kentucky State transportation officials have implemented official detours via the Interstate network. Traffic on eastbound I-64 in Indiana is detoured via I-265 eastbound and I-65 southbound. The traffic on I-65 southbound continues south to cross the Ohio River on the I-65 Kennedy Bridge to access downtown Louisville or rejoin I-64. Motorists also have the option to use the US 31 Clark Memorial Bridge, locally known as the Second Street Bridge, to cross the Ohio River into downtown Louisville. Traffic on westbound I-64 in Kentucky is detoured, via I-264 (or I-265) northbound to I-71 westbound to I-65 northbound. The traffic on I-65 northbound crosses the Ohio River on the Kennedy Bridge and continues north to I-265 westbound to rejoin I-64.

To reduce Interstate ramp merging delays, some ramps in the area have been closed. The KYTC closed the ramp from I-64 westbound to I-65 northbound. The INDOT closed the ramp from I-265 westbound to I-65 southbound. Additionally, INDOT has increased the number of lanes on key ramps to lessen bottlenecks on the ramp systems. The I-64 eastbound to I-265 eastbound ramp, the I-265 westbound to I-64 westbound ramp, and the I-265 eastbound to I-65 southbound ramp were widened from one to two lanes. To improve the peak period traffic flow into downtown Louisville during the morning, one lane of the four lane US-31 Clark Memorial Bridge is being used as a reversible lane. This measure allows for three lane openings into Louisville during the peak period in the morning.

The INDOT and the KYTC have coordinated plans with local governments on both sides of the Ohio River. The INDOT and the KYTC met with local transportation officials and police agencies immediately after the closure to prepare for the anticipated overflow of traffic from the official detour route on the Interstates to the local network. Such coordination is continuing as changes are being made to improve travel in the area. Police agencies in the region are also assisting.

The INDOT is warning motorists of the closure and delays via electronic message boards in Indianapolis, Evansville, and throughout southern Indiana. The KYTC is warning motorists of the closure and delays in Lexington and throughout southern Kentucky. The Illinois Department of Transportation is using such boards to notify drivers of the closure near the junction of I-57 and I-64. Additionally, the INDOT has contacted regional Traffic Management Centers in Cincinnati and St. Louis regarding the I-64 closure. All Louisville area electronic message boards are being used to notify drivers of the closure, detours, and delay notices.

To assist in facilitating interstate commerce, the INDOT and the KYTC are coordinating with local trucking associations to minimize freight traffic disruptions. The Indiana Department of the Revenue and the INDOT have suspended all oversize permits routed on I-64 and are redirecting permitted loads to cross the Ohio River at the following locations: Evansville US 41 Bridge, Rockport US 231 Bridge, and Lawrenceburg I-275 Bridge.

The KYTC is currently directing oversize and overweight permitted loads to avoid all of the Louisville bridges and seek alternate routes. Interested parties may apply for such permits to cross the Ohio River at the following locations: Henderson US 41 Bridge, Paducah I-24 Bridge, Owensboro US 231 Bridge, and Northern KY I-275 Bridge.

Commercial motor vehicles of the dimensions and configurations described in 23 CFR 658.13 and 658.15, which serve the affected area may use the alternate routes listed above. Vehicles servicing the businesses bordering the impacted area will still be able to do so by also using the alternate routes noted above and local signage to circulate around the restricted area.

The United States Coast Guard has not placed any restrictions on the Ohio River traffic around the area of the Sherman-Minton Bridge at this time.

After full consideration of the INDOT request discussed in this Final Notice and determining that the request meets the requirements of 23 CFR 658.11(e), the FHWA approves the deletion as proposed.

Authority: 23 U.S.C. 127, 315 and 49 U.S.C. 31111, 31112, and 31114; 23 CFR Part 658.

Issued on: January 11, 2012.
Victor M. Mendez,
Administrator.

[FR Doc. 2012-1204 Filed 1-20-12; 8:45 am]

BILLING CODE 4910-22-P